INTERNATIONAL TRADE COMMISSION

[Investigation Nos. 701-TA-401 (Review) and 731-TA-853 and 854 (Review)]

Structural Steel Beams from Japan and Korea

AGENCY: United States International Trade Commission.

ACTION: Revised schedule for the subject reviews.

Dates: Effective October 19, 2005.

FOR FURTHER INFORMATION CONTACT: Joann Tortorice (202-205-3032) or Douglas Corkran (202-205-3057), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record for these reviews may be viewed on the Commission's electronic docket (EDIS) at http://edis.usitc.gov.

SUPPLEMENTARY INFORMATION: Effective September 9, 2005, the Commission established a schedule for the conduct of the subject reviews (70 FR 54962, September 19, 2005). Subsequently, counsel for domestic interested parties requested that the Commission extend the date for filing prehearing briefs by two business days to alleviate the hardship placed on administrative personnel.¹ Counsel suggested no other change to the schedule. Absent objection from any other party, the Commission is revising its schedule. The deadline for filing prehearing briefs is January 4, 2006. The Commission's original schedule is otherwise unchanged.

¹ Letter to the Secretary of the Commission from Wiley Rein & Fielding, on behalf of Nucor Corp., Nucor-Yamato Steel Co., Steel Dynamics, Inc., and Chaparral Steel Company, dated September 25, 2005.

For further information concerning these reviews see the Commission's notice cited above and the Commission's Rules of Practice and Procedure, part 201, subparts A through E (19 CFR part 201), and part 207, subparts A and C (19 CFR part 207).

Authority: These reviews are being conducted under authority of title VII of the Tariff Act of 1930; this notice is published pursuant to section 207.21 of the Commission's rules.

Issued: October 31, 2005.
By order of the Commission.
Marilyn R. Abbott,
Secretary to the Commission.

[FR Doc. 05-22020 Filed 11-3-05; 8:45 am]

BILLING CODE 7020-02-P